DEPARTMENT OF ENERGY

Federal Energy Regulatory Commission

[Docket Nos. EL01-74-001 and ER01-2058-001]

Western Electricity Coordinating Council; Notice of Filing

May 24, 2002.

Take notice that on May 20, 2002, Western Electricity Coordinating Council (WECC) tendered for filing with the Federal Energy Regulatory Commission (Commission) the WECC Bylaws, Notice of Succession and Notice of Cancellation. WECC was established as a result of the merger of Western Systems Coordinating Council, Western Regional Transmission Association, and Southwest Regional Transmission Association.

This filing is made in accordance with the Commission's September 27, 2001 Order Granting Request to Transfer Programs and Directing Additional Filings, 96 FERC ¶ 61,348 (2001). It includes the WECC Bylaws, which have been modified consistent with the Commission's order. It also includes a Notice of Succession for the Unscheduled Flow Mitigation Plan and Reliability Management System contracts, which were previously administered by the WSCC and will now be administered by WECC. Finally, it includes a Notice of Cancellation of the Governing Agreements of WRTA and SWRTA.

Copies of the filing were served upon all parties in the above-captioned proceedings.

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link. Comment Date: June 10, 2002.

Magalie R. Salas,
Secretary.

[FR Doc. 02-14416 Filed 6-7-02; 8:45 am]

BILLING CODE 6717-01-P